ARCHITECTURAL AND TRANSPORTATION BARRIERS COMPLIANCE BOARD

36 CFR Part 1191

[Docket No. 98-5]

RIN 3014-AA16

Americans With Disabilities Act Accessibility Guidelines; Recreation Facilities

AGENCY: Architectural and Transportation Barriers Compliance Board.

ACTION: Availability of draft final guidelines summary and informational meetings.

SUMMARY: The Architectural and Transportation Barriers Compliance Board (Access Board) has placed in the docket for public review and comment a summary of recommendations made by an ad hoc committee of the Access Board for final accessibility guidelines on recreation facilities. The summary placed in the docket reflects the ad hoc committee's consideration of comments on a proposed rule and information gathered at meetings sponsored by the committee. Comments will be accepted on the summary and the Access Board will consider those comments before it votes on a final rule. The Access Board will hold informational meetings to discuss the summary on the dates and at the locations noted below.

DATES: Comments on the summary must be received by September 19, 2000. The Access Board will hold informational meetings on the summary on August 21-22, 2000 from 8:30 a.m. to 5:30 p.m. and on September 6-7, 2000 from 8:30 a.m. to 5:30 p.m.

ADDRESSES: Comments should be sent to the Office of Technical and Information Services, Architectural and Transportation Barriers Compliance Board, 1331 F Street NW., suite 1000, Washington, DC 20004-1111. Please identify comments as pertaining to this notice of availability. Comments will be available for inspection at the above address from 9:00 a.m. to 5:00 p.m. on regular business days. The informational meeting on August 21-22, 2000 will be held at the Hilton Garden Inn, 815 14th Street, NW in Washington, DC. The informational meeting on September 6-7, 2000 will be held at the Holiday Inn Golden Gateway, 1500 Van Ness Avenue in San Francisco, CA.

FOR FURTHER INFORMATION CONTACT: Bill Botten, Office of Technical and Information Services, Architectural and Transportation Barriers Compliance Board, 1331 F Street, NW., suite 1000, Washington, DC 20004-1111. Telephone number (202) 272-5434 extension 136 (Voice); (202) 272-5449 (TTY). These are not toll-free numbers. Electronic mail address: botten@access-board.gov.

SUPPLEMENTARY INFORMATION: In 1993, the Architectural and Transportation Barriers Compliance Board (Access Board) established an advisory committee of 27 members to make recommendations on guidelines for recreation facilities. The Recreation Access Advisory Committee met from July 1993 to May 1994 and submitted a report to the Board, “Recommendations for Accessibility Guidelines: Recreational Facilities and Outdoor Developed Areas”. The Board has made this report widely available as a source of guidance until final guidelines are developed. After receiving the committee's report, the Board published it as an advance notice of proposed rulemaking (59 FR 48542, September 21, 1994). Over 600 comments were received on the report and questions asked in the advance notice. The Board also sponsored research on access to swimming pools in 1995; and held informational meetings and site visits on access to miniature golf facilities in September 1996, and amusement rides in December 1999 and March and April 2000 to obtain additional information for this rulemaking.

A notice of proposed rulemaking on accessibility guidelines for recreation facilities was published in the Federal Register on July 9, 1999. 64 FR 37326 (July 9, 1999). The comment period was originally scheduled to close on November 8, 1999, but was extended until December 8, 1999 to allow more time for public comments to be submitted. Comments were submitted electronically, written, or as oral testimony received during two public hearings. Public hearings were held in Dallas, TX (August 26, 1999) and Boston, MA (November 17, 1999). Over 200 people attended the hearings and approximately 54 people provided testimony. Approximately 300 comments were received during the public comment period.

The proposed rule covered various recreation facilities, including amusement rides, boating facilities, fishing piers and platforms, golf courses, miniature golf, sports facilities, and swimming pools and spas. The proposed rule provided scoping requirements, which specify what has to be accessible, and technical requirements, which spell out how access is to be achieved. When finalized, these guidelines will supplement the Americans with Disabilities Act Accessibility Guidelines (ADAAG), which address a wide range of facilities but does not currently cover these types of recreation facilities in any particular detail.

The Access Board has created an ad hoc committee of Board members to review the comments received on the proposed rule. The ad hoc committee has discussed significant issues associated with the comments and has made recommendations to the full Board for the final rule. The Board has placed a summary of the ad hoc committee's recommendations in the rulemaking docket (Docket No. 98-5) for public review. The summary is also available on the Access Board's Internet site (http://www.access-board.gov/recreation/summary.htm).

The summary is being made available for informational purposes and for purposes of receiving additional comments from interested parties prior to final action. Following a review of any additional comments on the summary, the Board will vote on the final rule. In addition to welcoming written comments, the Board will be conducting two informational meetings to provide the public with an additional opportunity to discuss the summary. The informational meetings will be informal and interested parties are encouraged to join in discussions with Board members and the public on the summary. Preliminary agendas for the meetings are as follows:

Washington, DC, Hilton Garden Inn, 815 14th Street, NW

August 21, 2000

8:30 a.m.-12 noon—amusement rides

1:30 p.m.-3 p.m.—amusement rides (continued)

3 p.m.-5:30 p.m.—golf, sports facilities, fishing piers and platforms

August 22, 2000

8:30 a.m.-12:00 noon—boating facilities

1:30 p.m.-5:30 p.m.—miniature golf, swimming pools and spas

San Francisco, CA, Holiday Inn Golden Gateway, 1500 Van Ness Avenue

September 6, 2000

8:30 a.m.-12 noon—boating facilities

1:30 p.m.-3 p.m.—boating facilities (continued)

3 p.m.-5:30 p.m.—golf, sports facilities, fishing piers and platforms

September 7, 2000

8:30 a.m.-12 noon—amusement rides

1:30 p.m.-5:30 p.m.—miniature golf, swimming pools and spas

Interested members of the public are encouraged to contact the Access Board at (202) 272-5434 extension 136 or (202) 272-5449 (TTY) to preregister to attend the informational meetings.

Lawrence W. Roffee,
Executive Director.

[FR Doc. 00-18515 Filed 7-20-00; 8:45 am]

BILLING CODE 8150-01-P